DEPARTMENT OF COMMERCE

International Trade Administration

[A-549-848]

Truck and Bus Tires From Thailand: Postponement of Preliminary Determination in the Less-Than-Fair-Value Investigation

AGENCY: Enforcement and Compliance, International Trade Administration, Department of Commerce.

DATES: Applicable February 8, 2024.

FOR FURTHER INFORMATION CONTACT: Faris Montgomery or Jonathan Schueler, AD/CVD Operations, Office VIII, Enforcement and Compliance, International Trade Administration, U.S. Department of Commerce, 1401 Constitution Avenue NW, Washington, DC 20230; telephone: (202) 482-1537 and (202) 482-9175, respectively.

SUPPLEMENTARY INFORMATION:

Background

On November 6, 2023, the U.S. Department of Commerce (Commerce) initiated a less-than-fair-value (LTFV) investigation of imports of truck and bus tires from Thailand.¹ Currently, the preliminary determination is due no later than March 25, 2024.

¹ See Truck and Bus Tires from Thailand: Initiation of Less-Than-Fair-Value Investigation, 88 FR 77960 (November 14, 2023).

Postponement of Preliminary Determination

Section 733(b)(1)(A) of the Tariff Act of 1930, as amended (the Act), requires Commerce to issue the preliminary determination in an LTFV investigation within 140 days after the date on which Commerce initiated the investigation. However, section 733(c)(1) of the Act permits Commerce to postpone the preliminary determination until no later than 190 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On November 27, 2023, the petitioner ² submitted a timely request that Commerce postpone the preliminary determination in the LTFV investigation.³ The petitioner stated that it requested postponement due to the “complexity of the issues presented in this investigation.” ⁴

² The petitioner is the United Steel, Paper and Forestry, Rubber, Manufacturing, Energy, Allied Industrial and Service Workers International Union, AFL-CIO, CLC.

³ See Petitioner's Letter, “Request to Extend the Preliminary Determination,” dated November 27, 2023.

⁴ Id.

For the reason stated above and because there are no compelling reasons to deny the request, Commerce, in accordance with section 733(c)(1)(A) of the Act, is postponing the deadline for the preliminary determination by 50 days (i.e., 190 days after the date on which this investigation was initiated). As a result, Commerce will issue its preliminary determination no later than May 14, 2024. In accordance with section 735(a)(1) of the Act and 19 CFR 351.210(b)(1), the deadline for the final determination of this investigation will continue to be 75 days after the date of the preliminary determination, unless postponed at a later date.

This notice is issued and published pursuant to section 733(c)(2) of the Act and 19 CFR 351.205(f)(1).

Dated: February 1, 2024.
Abdelali Elouaradia,
Deputy Assistant Secretary for Enforcement and Compliance.

[FR Doc. 2024-02601 Filed 2-7-24; 8:45 am]

BILLING CODE 3510-DS-P